DEPARTMENT OF THE INTERIOR

Bureau of Land Management

[NV-930-1430-EQ; N-63154]

Notice of Realty Action: Commercial Lease of Public Lands, Nevada

AGENCY: Bureau of Land Management, Interior.

ACTION: Commercial lease.

SUMMARY: The Notice of Realty Action involves a long term lease of public lands administered by the Bureau of Land Management in Clark County, Nevada. The lease is intended to authorize Rank Brewing, LLC (N-63154) to utilize the land for a public parking lot, in conjunction with their private land, and subject to a right-of-way granted to (NEV-061518) Nevada Power Company and to a Recreation & Public Purpose lease issued to (N-51565) City of Las Vegas.

The land has been examined and found suitable for Commercial Leasing under (43 U.S.C. 2920). The legal description of the site is as follows:

Mount Diablo Meridian, Nevada

T. 20 S., R. 60 E.,

Sec. 15, E½SE¼NE¼NW¼, E½NE¼NE¼NW¼.

Containing 0.89 acres, more or less, generally located on the west side of Tenaya Way approximately 600 feet south of Cheyenne Avenue and Tenaya Intersection.

The site will be leased on a non-competitive basis. Detailed information is available for review at the Las Vegas Field Office, Bureau of Land Management, 4765 Vegas Dr., Las Vegas, Nevada 89108. Contact Frederick Marcell at 702/647-5164.

Reimbursement of costs shall be in accordance with the provisions of 43 CFR 2920.6.

For a period of 45 days from the date of publication of this notice, interested parties may submit comments to the Assistant Field Manager, Division of Lands, Bureau of Land Management, 4765 Vegas Drive., Las Vegas, NV 89108. Any adverse comments will be evaluated by the Assistant Field Manager, Division of Lands who may vacate or modify this Realty Action and issue a final determination. In the absence of any adverse comments, this Realty Action will become the final determination of the Bureau.

Dated: March 30, 2000.
Rex Wells,
Assistant Field Manager, Division of Lands, Las Vegas, NV.

[FR Doc. 00-14645 Filed 6-8-00; 8:45 am]

BILLING CODE 4310-HC-P